SECURITIES AND EXCHANGE COMMISSION

Sunshine Act Meetings

Notice is hereby given, pursuant to the provisions of the Government in the Sunshine Act, Public Law 94-409, that the Securities and Exchange Commission will hold the following meetings during the week of December 10, 2007:

Open Meetings will be held on Tuesday, December 11, 2007, at 10 a.m., Thursday, December 13, 2007 at 9 a.m., and Monday, December 17, 2007 at 9 a.m., in Room L-002, the Auditorium, and a Closed Meeting will be held on Thursday, December 13, 2007 at 2 p.m.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(5), (7), (9)(B), and (10) and 17 CFR 200.402(a)(5), (7), 9(ii) and (10), permit consideration of the scheduled matters at the Closed Meeting.

Commissioner Atkins, as duty officer, voted to consider the items listed for the closed meeting in closed session.

The subject matter of the Open Meeting scheduled for Tuesday, December 11, 2007 will be:

1. The Commission will consider whether to approve the 2008 budget of the Public Company Accounting Oversight Board and will consider the related annual accounting support fee for the Board under Section 109 of the Sarbanes-Oxley Act of 2002.

2. The Commission will consider whether to adopt amendments to the eligibility requirements of Form S-3 and Form F-3 of the Securities Act of 1933 to allow companies that do not meet the current public float requirements of the forms to nevertheless register primary offerings of their securities, subject to certain restrictions, including the amount of securities those companies may sell pursuant to the expanded eligibility standard in any one-year period.

3. The Commission will consider whether to adopt amendments to mandate electronic filing of Form D and revise the information requirements of that form. Form D is a notice required to be filed by companies that have sold securities without registration under the Securities Act of 1933 based on a claim of exemption under Regulation D or Section 4(6) of the Act. Form D filings are also required by most states.

4. The Commission will consider whether to publish a concept release to solicit public comment concerning possible revisions to the oil and gas reserves disclosure requirements. These requirements exist in their current form in Item 102 of Regulation S-K and Rule 4-10 of Regulation S-X under the Securities Act of 1933 and the Securities Exchange Act of 1934.

The subject matter of the Open Meetings to be held on Thursday, December 13, 2007 at 9 a.m. and on Monday, December 17, 2007 at 9 a.m. will be:

The Commission will hold roundtable discussions on whether to provide U.S. issuers the choice of reporting their financial results under International Financial Reporting Standards. The roundtables will further explore the matters covered in the Commission's Concept Release on Allowing U.S. Issuers to Prepare Financial Statements in Accordance with International Financial Reporting Standards (Release 33-8831; 34-56217) and the responses received.

The subject matter of the Closed Meeting scheduled for Thursday, December 13, 2007 will be:

Formal orders of investigation;

Institution and settlement of injunctive actions;

Institution and settlement of administrative proceedings of an enforcement nature; and

Adjudicatory matters.

At times, changes in Commission priorities require alterations in the scheduling of meeting items.

For further information and to ascertain what, if any, matters have been added, deleted or postponed, please contact:

The Office of the Secretary at (202) 551-5400.

Dated: December 4, 2007.
Nancy M. Morris,
Secretary.

[FR Doc. E7-23830 Filed 12-6-07; 8:45 am]

BILLING CODE 8011-01-P